DEPARTMENT OF JUSTICE

Service Contract Inventory; Notice of Availability

SUMMARY: In accordance with Section 743 of Division C of the FY 2010 Consolidated Appropriations Act, Public Law 111-117, the Department of Justice is publishing this notice to advise the public of the availability of its FY 2015 Service Contracts Inventory and Inventory Supplement. The inventory includes service contract actions over $25,000 that were awarded in Fiscal Year (FY) 2015. The inventory supplement includes information collected from contractors on the amount invoiced and direct labor hours expended for covered service contracts. The Department of Justice analyzes this data for the purpose of determining whether its contract labor is being used in an effective and appropriate manner and if the mix of federal employees and contractors in the agency is effectively balanced. The inventory and supplement do not include contractor proprietary or sensitive information.

The FY 2015 Service Contract Inventory and Inventory Supplement is provided at the following link: https://www.justice.gov/jmd/service-contract-inventory.

FOR FURTHER INFORMATION CONTACT: Tara M. Jamison, Procurement Policy Review Group, Justice Management Division, U.S. Department of Justice, Washington, DC 20530; Phone: 202-616-3754; Email: Tara.Jamison@usdoj.gov.

Dated: July, 19, 2016.
Jerri Murray,
Department Clearance Officer for PRA, U.S. Department of Justice.

[FR Doc. 2016-17248 Filed 7-20-16; 8:45 am]

BILLING CODE 4410-DH-P